DEPARTMENT OF TRANSPORTATION

Federal Aviation Administration

Notice of Intent of Waiver With Respect to Land; Cuyahoga County Airport, Richmond Heights, Ohio

AGENCY: Federal Aviation Administration (FAA), DOT.

ACTION: Notice.

SUMMARY: The FAA is considering a proposal to change 7.6 acres of airport land from aeronautical use to non-aeronautical use and to authorize the lease of airport property located at Cuyahoga County Airport, Richmond Heights, Ohio. The aforementioned land is not needed for aeronautical use.

The parcels for release are located in the northwest corner of the airport property, east of Richmond Road and north of Swetland Parkway. The property is currently designated as aeronautical use with an existing office building and parking lot. The proposed non-aeronautical use of the property is for the existing development.

DATES: Comments must be received on or before March 4, 2019.

ADDRESSES: Documents are available for review by appointment at the FAA Detroit Airports District Office, Evonne M. McBurrows, Program Manager, 11677 South Wayne Road, Suite 107, Romulus, Michigan 48174, Telephone: (734) 229-2945, Fax: (734) 229-2950 and Cuyahoga County, Department of Public Works, 2079 East Ninth, Cleveland, Ohio 44115.

Written comments on the Sponsor's request must be delivered or mailed to: Evonne M. McBurrows, Program Manager, Federal Aviation Administration, Detroit Airports District Office, 11677 South Wayne Road, Suite 107, Romulus, Michigan 48174, Telephone Number: (734) 229-2945/FAX Number: (734)229-2950.

FOR FURTHER INFORMATION CONTACT: Evonne M. McBurrows, Program Manager, Federal Aviation Administration, Detroit Airports District Office, 11677 South Wayne Road, Suite 107, Romulus, Michigan 48174, Telephone Number: (734) 229-2945/FAX Number: (734) 229-2950.

SUPPLEMENTARY INFORMATION: In accordance with section 47107(h) of Title 49, United States Code, this notice is required to be published in the Federal Register 30 days before modifying the land-use assurance that requires the property to be used for an aeronautical purpose.

The existing property does not have an aeronautical use; it is currently developed with a parking lot and office building. This land was acquired with local funds. Cuyahoga County is proposing to keep the existing development as is for non-aeronautical use. The County will continue to lease the land and receive fair market value.

The disposition of proceeds from the lease of the airport property will be in accordance with FAA's Policy and Procedures Concerning the Use of Airport Revenue, published in the Federal Register on February 16, 1999 (64 FR 7696).

This notice announces that the FAA is considering the release of the subject airport property at the Cuyahoga County Airport, Richmond Heights, Ohio from its obligations to be maintained for aeronautical purposes. Approval does not constitute a commitment by the FAA to financially assist in the change in use of the subject airport property nor a determination of eligibility for grant-in-aid funding from the FAA.

Legal Description for a 5.3476 Acre Parcel Carved Out From the Original FAA Parcel 53

Situated in the City of Richmond Heights, County of Cuyahoga, State of Ohio, known as being a part of Original Euclid Township Tract 13, also being a part of land conveyed to the Board of County Commissioners of Cuyahoga County, Ohio by deed recorded on July 28, 1967 as recorded in Volume 12141, Page 149 of Cuyahoga County Recorder's Records further bounded and described as follows:

Commencing at an iron pin in monument box found marking the intersection of the Northern line of said Tract 13 with the centerline of Richmond Road, having a 60-foot wide Right-of-Way;

Thence along the Northern line of said Tract 13, bearing South 89°37′58″ East, a distance of 235.60 feet to a point thereon, the same being the Northeast corner of land conveyed to Bret Smith and Deborah Lynn Smith by deed recorded on April 14, 2009 as recorded in Document No. 200904140309 and the TRUE PLACE OF BEGINNING of the parcel herein described;

Thence continuing along the Northern line of said Tract 13 and the Northern line of said land conveyed to the Board of County Commissioners of Cuyahoga County, Ohio, bearing South 89°37′58″ East, a distance of 1071.43 feet to a point thereon;

Thence, bearing South 48°49′44″ West, a distance of 364.22 feet to a point;

Thence, bearing South 41°10′16″ East, a distance of 2.08 feet to a point in the Southern line of said land conveyed to the Board of County Commissioners of Cuyahoga County, Ohio;

Thence along the Southern line of said land conveyed to the Board of County Commissioners of Cuyahoga County, Ohio, bearing South 89°19′08″ West, a distance of 800.23 feet to a point thereon;

Thence, bearing North 00°20′54″ East, a distance of 257.72 feet to the TRUE PLACE OF BEGINNING, containing 5.3476 acres of land, more or less but subject to all legal highways and all covenants and agreements of record.

Legal Description for a 1.8496 Acre Parcel Carved Out From the Original FAA Parcel 54

Situated in the City of Richmond Heights, County of Cuyahoga, State of Ohio, known as being a part of Original Euclid Township Tract 13, also being a part of land conveyed to the Board of County Commissioners of Cuyahoga County, Ohio by deed recorded on October 20, 1967 as recorded in Volume 12167, Page 183 of Cuyahoga County Recorder's Records further bounded and described as follows:

Commencing at an iron pin in monument box found marking the intersection of the Northern line of said Tract 13 with the centerline of Richmond Road, having a 60-foot wide Right-of-Way;

Thence along the centerline of said Richmond Road, bearing South 11°13′06″ West, a distance of 267.74 feet to a point thereon, the same being the Northwest corner of said land conveyed to the Board of County Commissioners of Cuyahoga County, Ohio;

Thence along the Northern line of said land conveyed to the Board of County Commissioners of Cuyahoga County, Ohio, bearing North 89°19′08″ East, a distance of 286.14 feet to a point thereon, and the TRUE PLACE OF BEGINNING of the parcel herein described;

Thence continuing along the Northern line of said land conveyed to the Board of County Commissioners of Cuyahoga County, Ohio, bearing North 89°19′08″ East, a distance of 800.23 feet to a point thereon;

Thence, bearing South 41°10′16″ East, a distance of 136.92 feet to a point;

Thence, bearing South 48°49′44″ West, a distance of 12.83 feet to a point in the Southern line of said land conveyed to the Board of County Commissioners of Cuyahoga County, Ohio;

Thence along the Southern line of said land conveyed to the Board of County Commissioners of Cuyahoga County, Ohio, bearing South 89°22′34″ West, a distance of 318.54 feet to a point in the Easterly Right-of-Way line of Swetland Court, having a 60-foot wide Right-of-Way as shown by the Dedication Plat as recorded in Map Volume 255, Page 8 of Cuyahoga County Recorder's Records;

Thence along the Easterly Right-of-Way line of said Swetland Court along a tangent curve to the left with a radius of 95.00 feet, a tangent length of 21.56 feet, a delta of 25°34′21″, the chord which bears North 76°49′37″ West for a distance of 42.05 feet, along said arc for a distance of 42.40 feet to a point of tangency;

Thence along the Northerly Right-of-Way line of said Swetland Court, bearing North 89°36′47″ West, a distance of 200.00 feet to a point of curvature;

Thence along the Northerly Right-of-Way line of said Swetland Court along a tangent curve to the right with a radius of 860.00 feet, a tangent length of 145.24 feet, a delta of 19°10′20″, the chord which bears North 80°01′37″ West for a distance of 286.43 feet, along said arc for a distance of 287.77 feet to a point of reverse curvature;

Thence along the Northerly Right-of-Way line of said Swetland Court along a tangent curve to the left with a radius of 1076.95 feet, a tangent length of 20.71 feet, a delta of 02°12′13″, the chord which bears North 71°32′34″ West for a distance of 41.41 feet, along said arc for a distance of 41.42 feet to a point thereon;

Thence, bearing North 00°20′54″ East, a distance of 31.82 feet to the TRUE PLACE OF BEGINNING, containing 1.8496 acres of land, more or less but subject to all legal highways and all covenants and agreements of record.

Legal Description for a 0.4032 Acre Parcel Carved Out From the Original FAA Parcel 55

Situated in the City of Richmond Heights, County of Cuyahoga, State of Ohio, known as being a part of Original Euclid Township Tract 13, also being a part of land conveyed to the Board of County Commissioners of Cuyahoga County, Ohio by deed recorded on February 10, 1967 as recorded in Volume 11894, Page 97 of Cuyahoga County Recorder's Records further bounded and described as follows:

Commencing at an iron pin in monument box found marking the intersection of the Northern line of said Tract 13 with the centerline of Richmond Road, having a 60-foot wide Right-of-Way;

Thence along the centerline of said Richmond Road, bearing South 11°13′06″ West, a distance of 381.46 feet to a point thereon, the same being the Northwest corner of said land conveyed to the Board of County Commissioners of Cuyahoga County, Ohio;

Thence along the Northern line of said land conveyed to the Board of County Commissioners of Cuyahoga County, Ohio, bearing North 89°22′34″ East, a distance of 870.43 feet to a point thereon, the same being a point in the Easterly Right-of-Way line of Swetland Court, having a 60-foot wide Right-of-Way as shown by the Dedication Plat as recorded in Map Volume 255, Page 8 of Cuyahoga County Recorder's Records, and the TRUE PLACE OF BEGINNING of the parcel herein described;

Thence continuing along the Northern line of said land conveyed to the Board of County Commissioners of Cuyahoga County, Ohio, bearing North 89°22′34″ East, a distance of 318.54 feet to a point thereon;

Thence, bearing South 48°49′44″ West, a distance of 114.63 feet to a point;

Thence, bearing North 89°36′47″ West, a distance of 179.96 feet to a point in the Easterly line of Right-of-Way line of said Swetland Court;

Thence along the Easterly Right-of-Way line of said Swetland Court along a tangent curve to the left with a radius of 95.00 feet, a tangent length of 49.64 feet, a delta of 55°10′43″, the chord which bears North 36°27′04″ West for a distance of 87.99 feet, along said arc for a distance of 91.49 feet to the TRUE PLACE OF BEGINNING, containing 0.4032 acres of land, more or less but subject to all legal highways and all covenants and agreements of record.

Issued in Romulus, Michigan, on December 20, 2018.
John L. Mayfield, Jr.,
Manager, Detroit Airports District Office, FAA, Great Lakes Region.

[FR Doc. 2019-00761 Filed 1-31-19; 8:45 am]

BILLING CODE 4910-13-P